DEPARTMENT OF TRANSPORTATION

Surface Transportation Board

[STB Docket No. AB-398 (Sub-No. 6X)]

San Joaquin Valley Railroad Company—Abandonment Exemption—in Kern County, CA

San Joaquin Valley Railroad Company (SJVR) has filed a notice of exemption under 49 CFR part 1152 Subpart F—Exempt Abandonments to abandon an approximately half mile segment of railroad on the Oil City Subdivision, between milepost 311.9 and milepost 312.5 at or near Maltha, in Kern County, CA.¹ The line traverses United States Postal Service Zip Code 93308.²

¹ See San Joaquin Valley Railroad Co.—Acquisition and Lease Exemption—Southern Pacific Transportation Company, Finance Docket No. 31993 (Sub-No. 1) (ICC served Oct. 4, 1993), and San Joaquin Valley Railroad Company—Acquisition and Operation Exemption-Tulare Valley Railroad Company, STB Finance Docket No. 33723 (STB served Mar. 30, 1999).

² Under 49 CFR 1152.50(d)(2), the railroad must file a verified notice with the Board at least 50 days before the abandonment or discontinuance is to be consummated. SJVR, in its verified notice tendered for filing on March 22, 2000, indicated a proposed consummation date of May 15, 2000. Because applicant had failed to publish notice in the newspaper as required, the verified notice was not complete until April 4, 2000, when proof of newspaper publication was received at the Board and hence the notice was not deemed filed until then. Thus, the earliest possible consummation date is May 24, 2000. Applicant's representative has confirmed that the correct consummation date is on or after May 24, 2000.

SJVR has certified that: (1) No local traffic has moved over the line for at least 2 years; (2) any overhead traffic on the line can be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment— Goshen, 360 I.C.C. 91 (1979). To address whether this condition adequately protects affected employees, a petition for partial revocation under 49 U.S.C. 10502(d) must be filed. Provided no formal expression of intent to file an offer of financial assistance (OFA) has been received, this exemption will be effective on May 24, 2000, unless stayed pending reconsideration. Petitions to stay that do not involve environmental issues,³ formal expressions of intent to file an OFA under 49 CFR 1152.27(c)(2),⁴ and trail use/rail banking requests under 49 CFR 1152.29 must be filed by May 4, 2000. Petitions to reopen or requests for public use conditions under 49 CFR 1152.28 must be filed by May 15, 2000, with: Surface Transportation Board, Office of the Secretary, Case Control Unit, 1925 K Street, NW, Washington, DC 20423.

³ The Board will grant a stay if an informed decision on environmental issues (whether raised by a party or by the Board's Section of Environmental Analysis in its independent investigation) cannot be made before the exemption's effective date. See Exemption of Out-of-Service Rail Lines, 5 I.C.C.2d 377 (1989). Any request for a stay should be filed as soon as possible so that the Board may take appropriate action before the exemption's effective date.

⁴ Each offer of financial assistance must be accompanied by the filing fee, which currently is set at $1000. See 49 CFR 1002.2(f)(25).

A copy of any petition filed with the Board should be sent to applicant's representative: Fritz R. Kahn, P.C., 1920 N. Street, NW (8th Fl.), Washington, DC 20036-1601.

If the verified notice contains false or misleading information, the exemption is void ab initio.

SJVR has filed an environmental report which addresses the abandonment's effects, if any, on the environment and historic resources. The Section of Environmental Analysis (SEA) will issue an environmental assessment (EA) by April 28, 2000. Interested persons may obtain a copy of the EA by writing to SEA (Room 500, Surface Transportation Board, Washington, DC 20423) or by calling SEA, at (202) 565-1545. Comments on environmental and historic preservation matters must be filed within 15 days after the EA becomes available to the public.

Environmental, historic preservation, public use, or trail use/rail banking conditions will be imposed, where appropriate, in a subsequent decision.

Pursuant to the provisions of 49 CFR 1152.29(e)(2), SJVR shall file a notice of consummation with the Board to signify that it has exercised the authority granted and fully abandoned the line. If consummation has not been effected by SJVR's filing of a notice of consummation by April 24, 2001, and there are no legal or regulatory barriers to consummation, the authority to abandon will automatically expire.

Decided: April 18, 2000.
By the Board, David M. Konschnik, Director, Office of Proceedings.
Vernon A. Williams,
Secretary.

[FR Doc. 00-10165 Filed 4-21-00; 8:45 am]

BILLING CODE 4915-00-P